DEPARTMENT OF TRANSPORTATION

National Highway Traffic Safety Administration

49 CFR Part 571

[Docket No. NHTSA-2005-21243]

RIN 2127-AI66

Federal Motor Vehicle Safety Standards; Child Restraint Systems

AGENCY: National Highway Traffic Safety Administration (NHTSA), Department of Transportation (DOT).

ACTION: Notice of proposed rulemaking (NPRM).

SUMMARY: Federal Motor Vehicle Safety Standard (FMVSS) No. 213, “Child restraint systems,” requires that the webbing of child restraints must not lose more than a specified percentage of its original breaking strength as a result of being exposed to certain adverse conditions. The standard currently does not specify a minimum breaking strength for the unexposed webbing. This document proposes such a minimum, as well as a minimum breaking strength requirement for the exposed webbing. It also makes clearer in the text of FMVSS No. 213 that the heavier of two weights specified in the standard is used to abrade the webbing used to attach child restraint systems to the child restraint anchorages located in a vehicle.

DATES: Comments must be received on or before August 29, 2005.

ADDRESSES: You may submit comments (identified by the DOT Docket Management System Docket Number in the heading of this NPRM) by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the Supplementary Information section of this document. Note that all comments received will be posted without change to http://dms.dot.gov, including any personal information provided. Please see the Privacy Act heading under Regulatory Analyses and Notices.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: For technical and policy issues, you may contact Mr. Tewabe Asebe, Office of Rulemaking (Telephone: 202-366-2365) (Fax: 202-366-7002). For legal issues, you may contact Ms. Deirdre R. Fujita, Office of Chief Counsel (Telephone: 202-366-2992) (Fax: 202-366-3820). You may send mail to these officials at the National Highway Traffic Safety Administration, 400 Seventh Street, SW., Washington, DC 20590.

SUPPLEMENTARY INFORMATION:

Introduction

FMVSS No. 213 regulates child restraint systems used in motor vehicles and aircraft (49 CFR 571.213). This NPRM concerns the standard's strength requirements for belt webbing, set forth in S5.4.1 of FMVSS No. 213. Among other things, that section states that the webbing of belts provided with a child restraint system and used to attach the system to the vehicle, or to restrain the child within the system, shall meet certain strength requirements after being subjected to abrasion (S5.4.1(a)), light exposure (S5.4.1(b)), and micro-organisms (S5.4.1(b)).¹

¹ S5.4.1(a) and (b) reference FMVSS No. 209, 49 CFR 571.209, “Seat belt assemblies,” which specifies requirements for seat belt assemblies.

Each of these strength requirements is expressed in the form of a percentage of the strength of the original webbing. S5.4.1(a) specifies that, after being subjected to abrasion as specified in certain sections of FMVSS No. 209, the webbing must have a breaking strength of not less than 75 percent of the strength of the unabraded webbing. S5.4.1(b) of FMVSS No. 213, referring to S4.2(e) in FMVSS No. 209, specifies that after being exposed to light, the webbing shall have a breaking strength of not less than 60 percent of the strength before exposure. The same section of FMVSS No. 213 also refers to S4.2(f) of FMVSS No. 209, which specifies that after being exposed to micro-organisms, the webbing shall have a breaking strength of not less than 85 percent of the strength before exposure to micro-organisms.

This NPRM seeks to achieve three goals. First is to specify a minimum breaking strength for unabraded webbing or webbing that has not been exposed to light or micro-organisms (hereinafter referred to as “new webbing”). Second is to affirm that a purpose of S5.4.1(a) and (b) of FMVSS No. 213 is to limit the degradation rate of the webbing. Limiting degradation is done by having a minimum breaking strength requirement that applies to webbing that has been exposed to mechanical or environmental conditions in the test laboratory that accelerate the aging of the webbing. (Webbing that has been abraded and exposed to the accelerated conditions will be referred to as “exposed webbing.”) NHTSA tentatively concludes that specifying minimum breaking strength requirements for new and exposed webbing eliminates the need for the current percentage strength degradation requirements. Third is to clarify the weight used in the abrasion test to abrade the webbing used to attach child restraint systems to the child restraint anchorages located in a vehicle.

Table 1, below, summarizes this NPRM's proposed minimum breaking strength requirements for new and exposed webbing: (a) Used to attach the child restraint system to the child restraint anchorage system on the vehicle (hereinafter “tether webbing”), and (b) used to restrain the child in the child restraint (hereinafter “harness webbing”).

Table 1.—Proposed Breaking Strength Requirements
Type of webbing | Type of exposure | Proposed breaking strength requirement
New tether webbing |  | 15,000 N
Exposed tether webbing | Abrasion | 11,200 N
| Exposure to light | 9,000 N
| Exposure to micro-organisms | 12,700 N
New harness webbing |  | 11,000 N
Exposed harness webbing | Abrasion | 8,200 N
| Exposure to light | 6,600 N
| Exposure to micro-organisms | 9,300 N

I. Current Minimum Breaking Strength Requirement

FMVSS No. 213 does not specify a minimum breaking strength for new webbing. NHTSA is concerned that, because currently each of the strength requirements for exposed webbing is expressed in the form of a percentage of the strength of the webbing as new, where there is no specified minimum breaking strength for new webbing, manufacturers could use webbing of inferior strength to meet the standard's requirements. The exposed webbing might have a breaking strength that is within the specified percentage of the strength of the new webbing, but the webbing might not have an absolute strength high enough to provide a margin of safety for use throughout the life of a child restraint.

Until 1979, FMVSS No. 213 had specified minimum breaking strength requirements for harness webbing used in a child restraint. The original FMVSS No. 213, “Child Seating Systems” (March 26, 1970; 35 FR 5120), required harness webbing to meet FMVSS No. 209's performance requirements for “Type 3” seat belt assemblies.² FMVSS No. 209 required that the webbing in a Type 3 seat belt assembly have not less than: 1500 pounds (6,672 N) breaking strength for webbing in pelvic and upper torso restraints; 4,000 pounds (17,793 N) breaking strength for webbing in seat back retainers; and 4,000 pounds (17,793 N) breaking strength for webbing connecting pelvic and upper torso restraints to attachment hardware when the assembly had a single webbing connection, or 3,000 pounds (13,345 N) breaking strength for such webbing when the assembly had two or more webbing connections.³ (S4.2(b))

² FMVSS No. 209 defined a Type 3 seat belt assembly as a combination pelvic and upper torso restraint for persons weighing not more than 50 pounds (23 kilograms)(kg) and capable of sitting upright by themselves, typically children from 8 months to 6 years old.

³ The pound forces were compared to kilograms. Because a kilogram is a unit of mass, the pound forces should have been compared to Newton (1 lbf ≉ 4.45 N).

In December 1979, NHTSA upgraded FMVSS No. 213 to expand the coverage of the standard to all types of restraint systems and to incorporate dynamic testing of the devices. Requirements for child harnesses were moved from FMVSS No. 209 to FMVSS No. 213, and all references to “Type 3” belts were deleted from the standards. The 1979 rule expanded the applicability of FMVSS No. 213's webbing requirements, from webbing used to restrain the child, to “webbing * * * used to attach the system to the vehicle or to restrain the child within the system * * *.” 44 FR 72131, 72149. In place of the webbing strength requirements that had been in FMVSS No. 209, the final rule established a requirement in FMVSS No. 213 that webbing used in child restraint systems have an abraded breaking strength of not less than 75 percent of its unabraded breaking strength.

The final rule did not retain the breaking strength requirements for unabraded webbing formerly contained in FMVSS No. 209, and did not establish a new minimum breaking strength requirement for unabraded webbing. In the NPRM preceding the 1979 final rule, the agency noted that while it was not explicitly proposing belt elongation and strength requirements, “these factors would have to be considered by manufacturers of child restraints equipped with belts to ensure that the webbing abrasion and the proposed acceleration and excursion limits are met.” (43 FR 21475; May 18, 1978.)

Since that time, not having a minimum breaking strength for unabraded webbing has affected the enforcement action of the agency. Evenflo petitioned for and was granted an exemption from the notification and remedy requirements of 49 U.S.C. 30118-30120, on the basis that a noncompliance with S5.4.1(a) of FMVSS No. 213 was inconsequential to motor vehicle safety.⁴ (67 FR 21798; May 1, 2002; Docket No. 2000-7818, Notice 2.) The breaking strength of unabraded tether webbing on some of Evenflo's child restraints was 20,426 N. After being abraded, the tether webbing's breaking strength was 13,706 N, or about 67 percent of the strength of the unabraded tether webbing (which did not comply with the requirement that the strength of the exposed webbing must be at least 75 percent of the strength of the unabraded tether webbing). Evenflo reported that notwithstanding this failure, its tether webbing, even in a severely abraded condition, passed the FMVSS No. 213 dynamic test requirements for child restraint systems with over a 90 percent strength safety margin.⁵ Evenflo also stated that its tether webbing is stronger before abrasion than the tether webbing of other major U.S. child restraint manufacturers, and that the strength of its webbing is reduced to that of its competitors' webbing only when it is severely abraded, beyond that required by FMVSS No. 213.

⁴ Section 30118(c) requires a manufacturer to notify NHTSA and the owners, purchasers, and dealers of noncompliant vehicles or equipment if the manufacturer (1) learns the vehicles or equipment contains a defect and decides in good faith that the defect is related to motor vehicle safety; or (2) decides in good faith that the vehicle or equipment does not comply with an applicable Federal motor vehicle safety standard. Section 30120(a)(1) requires the manufacturer to remedy the noncompliance without charge. Section 30118(d) requires that, upon application by a manufacturer, NHTSA must exempt the manufacturer from the notification and remedy requirements if the agency decides the noncompliance is inconsequential to motor safety.

⁵ FMVSS No. 213 requires child restraint systems to meet requirements for integrity, injury criteria, occupant excursion, and force distribution after being subjected to a 48 km/h (30 mph) frontal barrier crash.

The agency granted the petition after analyzing, inter alia, FMVSS No. 213 compliance data pertaining to breaking strength and abrasion of new tether webbing used in child restraint systems and adult seat belt assemblies. The agency determined that the tether webbing used in Evenflo's child restraints achieved the performance previously specified in FMVSS Nos. 209 and 213 during 1971-1979 for webbing in the unabraded condition and after abrasion conditioning. The agency further noted, however, that it would undertake rulemaking to consider whether to amend FMVSS No. 213 to require a minimum breaking strength for webbing “to ensure that all child restraints being introduced into the market have adequate webbing strength to provide child safety protection over their lifetime.” (67 FR at 21799)

II. Agency Proposal

The agency is proposing minimum breaking strength requirements for new webbing. In addition, NHTSA believes that webbing should retain a minimum breaking strength for the usable life of the child restraint system. Webbing would be better able to retain its strength by meeting a minimum breaking strength requirement after abrasion or exposure to environmental conditions, namely exposure to light and exposure to micro-organisms. By specifying a minimum breaking strength requirement after mechanical or environmental webbing exposure, in conjunction with the minimum breaking strength requirement for new webbing, NHTSA effectively limits the mechanical and environmental degradation of the webbing. These tests are conducted to ensure that the webbing will still perform acceptably in protecting a child in the event of a crash, even after the webbing has been degraded through exposure to specified conditions that are intended to simulate those conditions that the webbing will likely encounter through normal use.

The basis for the current exposed webbing strength requirements—expressed as a percentage of the webbing's unexposed strength—is an SAE standard (Motor vehicle seat belt assemblies “ SAE J4C, 1966) whose requirements were originally adopted into FMVSS No. 209, and subsequently into FMVSS No. 213, for use in evaluating webbing strength following environmental conditioning. As noted earlier, webbing must maintain at least: (a) 75 percent of its original strength after abrasion, (b) 60 percent of its original strength after exposure to light, and (c) 85 percent of its original strength after exposure to micro-organisms. The agency believes that, while in real-world conditions webbing could be subject to all of these conditions simultaneously and that the tests described are conducted separately, the exposed webbing strength levels are nonetheless sufficient to ensure that the restraint will perform acceptably. This is demonstrated through a review of NHTSA compliance data, in conjunction with a lack of real-world reports of webbing degradation.

The agency also notes that current child restraints are required by FMVSS No. 213 to have components that attach to a child restraint anchorage system “LATCH” ⁶ on a vehicle. At this time, child restraint manufacturers have predominately chosen to attach these components to the child restraint by use of webbing material. Because this tether webbing material attaches the child restraint to the vehicle and takes the place of the vehicle's seat belts in fulfilling this function, it is essential that this child restraint tether webbing meet minimum breaking strength requirements. These requirements will ensure a secure attachment of the restraint to the vehicle for the lifetime of the restraint.

⁶ “LATCH” stands for “Lower Anchors and Tethers for Children,” a term that was developed by manufacturers and retailers to refer to the standardized child restraint anchorage system required by FMVSS No. 225, “Child restraint anchorage systems.” This preamble uses the term to describe either an FMVSS No. 225 anchorage system in a vehicle or a child restraint that attaches to an FMVSS No. 225 child restraint anchorage system. Child restraints have been required to have components enabling attachment to the lower anchors of a vehicle's LATCH system since September 1, 2002. They have had top tethers that attach to the tether anchor of a LATCH system since 1999.

Rationale for Proposed Values

NHTSA believes that, in setting minimum tether and harness webbing breaking strength requirements, the agency should consider the effect of the child occupant's weight, crash duration and severity, as well as potential misuse by consumers in securing child restraint systems to vehicles. For example, if a consumer improperly attaches one of the child restraint system's LATCH anchorages, higher than normal loads could be placed on the other attachments. The agency tentatively concludes that the safety factor included in the minimum breaking strength requirements should account for these possibilities. Moreover, due to the nature of their use, the webbing used in child restraint systems may encounter more soiling than webbing material used in adult restraint systems.

Before FMVSS No. 213 was established, FMVSS No. 209 maintained separate strength requirements: one for webbing used to attach the child seating system to the vehicle (tether webbing), and another for webbing used to restrain the child in the child seating system (harness webbing). The agency is proposing to continue this approach by establishing separate minimum breaking strength requirements for tether webbing (as used in this preamble, this term includes webbing used to attach a child restraint to all three anchorages of a LATCH system), and another for harness webbing.

To determine proposed levels for these minimum breaking strength requirements, the agency evaluated two data sources. First, the agency reviewed FMVSS No. 213 compliance data for the years 2000-2002. NHTSA examined webbing compliance test data for 129 new child restraint systems. Twenty of these tests involved tether webbing, while the other 109 tests involved harness webbing. Second, NHTSA reviewed the FMVSS No. 209 breaking strength requirements for Type 3 seat belt assembly webbing prior to the establishment of FMVSS No. 213, which had also been adopted directly from the requirements of SAE J4C. The Type 3 seat belt assemblies requirements used prior to 1979 were:

1. 1,500 pounds (6,670 N) breaking strength for webbing in pelvic and upper torso restraints.

2. 4,000 pounds (17,793 N) breaking strength for webbing in seat back retainers.

3. 4,000 pounds (17,793 N) breaking strength for webbing connecting pelvic and upper torso restraints to attachment hardware when the assembly had a single webbing connection, or 3,000 pounds (13,340 N) breaking strength for such webbing when the assembly had two or more webbing connections.

New Tether Webbing

NHTSA is proposing a minimum breaking strength requirement of 15,000 N for new tether webbing. The 15,000 N proposal is based on the following rationale.

The term tether webbing (as used in this preamble) includes webbing used to attach a child restraint to any of the three anchorages of a LATCH system—either the two lower anchorages or the upper tether anchorage. Tether webbing needs to be able to withstand the loads imposed by the mass of a child and child restraint together in the event of a crash, in the same manner as the webbing used in Type 3 seat belt assemblies. (This is in contrast to harness webbing, which only needs to restrain the child occupant within the restraint system.) Tether webbing is thus analogous to Type 3 seat belt webbing referenced in FMVSS No. 213 prior to 1979. Type 3 webbing was required to meet a breaking strength in the range of approximately 13,000-18,000 N (depending on the number of webbing connections as noted earlier).

The agency is proposing that new tether webbing meet a minimum breaking strength of 15,000 N—the approximate mid-point of the range specified for Type 3 seat belt assemblies prior to 1979. NHTSA tentatively believes that a 17,000 N requirement might be excessive. Only 12 of the 20 webbings that we tested in the FMVSS No. 213 compliance program in 2000-2002 would pass such a requirement, while NHTSA has not seen any real-world problems with respect to webbing failures. A lower bound of 13,000 N would result in 18 of the 20 tether webbing samples passing. With the tether webbing being used to attach the child and child restraint to the vehicle (via the LATCH system), it is imperative that the webbing be strong enough to bear the mass of the child and restraint in a crash over the lifetime of the restraint. A 15,000 N requirement has a margin of safety above the minimum 13,000 N lower limit previously established for Type 3 webbing.

In addition, NHTSA has examined tether webbing compliance data for 20 child restraint systems, and has concluded that a 15,000 N breaking strength requirement for new tether webbing is both feasible and practicable. Of the 20 webbings evaluated, the highest unexposed (“unabraded”) webbing strength measured was 20,871 N. Seventeen (17) of the 20 unabraded webbing strengths measured above 15,000 N. The data show that the median unabraded webbing strength was 18,156 N, with the average being 17,153 N. A summary of the compliance data has been placed in the docket. It is also worth reiterating that the agency is unaware of any real-world data that would indicate the presence of a safety problem associated with the strength levels of current webbings.

One sample of Safeline tether webbing would fail the proposed 15,000 N requirement with an unabraded tether webbing breaking strength of 12,238 N. One sample of Evenflo tether webbing would also fail the proposed 15,000 N requirement with an unabraded tether webbing breaking strength of 13,973 N. Similarly, one sample of Britax tether webbing had an unabraded breaking strength of only 5,385 N. These samples met the current strength requirement (which is based on retaining a percentage of the webbing's original strength) because they all retained 100 percent of the unabraded tether webbing strength. The Britax sample had an unusually low breaking strength (5,385 N) compared to the other tether webbings, as the average unabraded strength of other tether webbings evaluated in the compliance test program was 17,153 N. That is, for the 20 child restraints examined, the majority of all tether webbings are about three times stronger than the Britax tether webbing.

Exposed Tether Webbing. While the minimum strength proposals apply to new tether webbing, the abrasion test and the other tests that distress the webbing account for the use of the child restraint components over the long-term and specify a limit on how much the tether webbing can degrade. To ensure tether webbing has enough strength to endure a lifetime of use and exposure, this NPRM proposes to require the tether webbing to meet minimum strength requirements after abrasion, exposure to light, and exposure to micro-organisms. These are the same test conditions to which such webbing is currently subjected (see S5.4.1 of FMVSS No. 213). Each of the post-exposure strength requirements is calculated from current percentages of the strength of the original (new) tether webbing now required by FMVSS No. 213.

We propose not changing the percentages now used in S5.4.1 to calculate the required minimum strength of the exposed tether webbing. These percentages are: 75% (abrasion); 60% (exposure to light); and 85% (exposure to micro-organisms). Since we are proposing that new tether webbing meet a minimum strength requirement of 15,000 N, the proposed minimum strength requirements for exposed tether webbing are: 11,200 N (abrasion), 9,000 N (exposure to light), and 12,700 N (exposure to micro-organisms).

Abrasion. The tether webbing compliance data indicates that an 11,200 N breaking strength requirement for abraded tether webbing appears to be feasible and practicable. Of the 20 webbings evaluated, the highest abraded tether webbing strength was 20,203 N, while the lowest was 5,385 N. Eighteen (18) of the 20 abraded tether webbing strengths were above 11,200 N. The median abraded tether webbing strength was 16,287 N, with the average being 15,689 N.

Two of the 20 tether webbings evaluated failed to meet the current 75 percent abrasion test requirement. One was a sample of Evenflo tether webbing from the 2000 compliance test program, which retained only 67 percent of its measured unabraded strength. The other was a sample of Cosco tether webbing from the 2001 test program, which retained only 55 percent of its unabraded strength. The Evenflo sample would meet the proposed 11,200 N strength requirement for abraded tether webbing, while the Cosco sample would be just below (10,900 N) the proposed requirement.

We also note that the Britax sample from the 2002 compliance test program retained all its unabraded strength after abrasion, which met the current strength requirement for exposed tether webbing. However, with a breaking strength of only 5,385 N, the tether webbing would fail to meet the proposed requirement of 11,200 N.

Exposure to light. The proposed minimum strength requirements for tether webbing exposure to light is 9,000 N. Nineteen (19) of the 20 tether webbing strengths after exposure to light measure above 9,000 N. Of the 20 tether webbings evaluated, the highest exposed to light tether webbing strength was 21,850 N, while the lowest was 5,563 N. The median light exposed tether webbing strength was 14,930 N, with the average being 14,902 N. The exposure to light test data for the same 20 tether webbing samples evaluated for abrasion testing discussed earlier have also been placed in the docket.

Of the 20 webbings evaluated, only Britax at 59 percent failed to meet the current 60 percent exposure to light test requirement. That sample would meet the proposed 9,000 N strength requirement for exposure to light test.

We also note that one of the Britax samples for FY 2002 data retained all its original strength after exposure to light test, which met the current strength requirement for exposed tether webbing. However, with a breaking strength of only 5,563 N, the tether webbing would fail to meet the proposed requirement of 9,000 N.

Exposure to micro-organisms. S5.1(f) of FMVSS No. 209 states: “Note: This test shall not be required on tether webbing made from material which is inherently resistant to micro-organisms.” Currently, manufacturers use nylon or polyester material for their tether webbing and, therefore, the agency has no data for micro-organisms tests for tether webbing.

Because it is possible that in the future manufacturers may use less resistant tether webbing material, the agency is proposing tether webbing strengths for new and exposed webbing of 15,000 N and 12,700 N, respectively.

Harness Webbing

Child restraints, other than belt-positioning booster seats, use an internal harness system and/or a structural element positioned in front of the child to restrain the forward motion of a child occupant in the event of a crash. Most child restraints using an internal harness system are recommended for use by children weighing up to 18 kilograms (kg) (40 pounds).⁷ However, data from a Children's Hospital of Philadelphia (CHOP) study show that even though manufacturers' typically recommend use of harness-type restraints only up to 18 kg, many children are kept in child restraints with internal harnesses well beyond that weight.⁸ Using the crash surveillance database from the Partners for Child Passenger Safety (PCPS) project, CHOP estimated that from 1999 to 2002, 32 percent fewer U.S. children between 9 and 36.4 kg (20-80 lb) were restrained inappropriately in seat belts, and that the most prevalent form of restraint shifted from seat belts to child restraints with harnesses. Of note, by the end of 2002, 27 percent of children weighing between 18.6 and 22.7 kg (41-50 lb) were restrained in child restraints with harnesses. These children were of weights typically above the manufacturer's recommended limit for those restraints. In developing an appropriate minimum breaking strength requirement for webbing used in child restraint harnesses, NHTSA considered the CHOP study and assumed the Hybrid III 6-year-old dummy weight of 23.4 kg (51.6 pounds) to be representative of a heavier child in a harness-type restraint.⁹

⁷ For most children weighing more than 18 kg, belt-positioning booster seats are used with vehicle lap and shoulder belts. Many belt-positioning booster seats are designed for dual use as a toddler restraint. A toddler restraint is a forward-facing child restraint system, generally recommended for children weighing 30-40 pounds, that has its own internal harness system to restrain the child. These restraints are dependent on the vehicle's belts or LATCH system to attach the child restraint to the vehicle. The harness is designed be removed by the consumer when the child restraint is to be used with a vehicle's lap and shoulder belt as a belt-positioning booster (typically when the child weighs 40 pounds).

⁸ Winston et al., “Shifts in Child Restraint Use According to Child Weight in the United States From 1999 to 2002,” 47th Annual Proceedings, Association for the Advancement of Automotive Medicine, September 22, 2003.

⁹ NHTSA is aware that Britax manufactures forward-facing child restraints that are certified for children weighing up to 65 pounds, and has a restraint that is recommended for children up to 80 pounds. However, all other forward-facing child restraints (with internal harnesses) are certified for children up to 40 pounds. To account for a safety margin, our analysis is based on calculations assuming that a child weighing 50 pounds will be restrained by the harness webbing. We believe that 50 pounds represents a reasonable upper weight for these calculations.

New Harness Webbing. NHTSA is proposing a minimum breaking strength requirement of 11,000 N for new harness webbing. The 11,000 N proposal is based on the following rationale.

NHTSA examined the breaking strength requirements for Type 3 seat belt assemblies used prior to 1979, in conjunction with FMVSS No. 213 harness webbing compliance test data for the years 2000-2002, in developing the proposed 11,000 N breaking strength requirement for harness webbing. The breaking strength requirements for Type 3 seat belt assemblies ranged from 1,500 pounds (6,670 N) for webbing in pelvic and upper torso restraints to 4,000 pounds (17,793 N) for webbing in seat back retainers. The proposed breaking strength requirement of 11,000 N for harness webbing falls within this range of values, and appears to be practicable and reasonable based on the compliance data results discussed below.

NHTSA examined harness webbing compliance data for 109 child restraint systems collected from 2000 to 2002. A summary of this compliance data has been placed in the docket.

These compliance data show that 92 percent (100 out of 109) of the harness webbing comply with the proposed 11,000 N minimum breaking strength requirement. The highest unabraded harness webbing strength was measured to be 22,517 N. The lowest was 6,097 N. The median unabraded harness webbing strength was 12,594 N, with the average being 13,519 N. Based on these data and an examination of the Type 3 seat belt assembly strength requirements used prior to 1979, NHTSA tentatively concludes that a minimum breaking strength of 11,000 N for new harness webbing would be reasonable. Importantly, there have been no real-world reports of harness webbing failures that would lead the agency to believe that more stringent strength requirements are necessary.

Exposed Harness Webbing. Similar to the proposal discussed earlier regarding requirements for the strength of tether webbing after abrasion, exposure to light and to micro-organisms, this NPRM would also require harness webbing to meet minimum strength requirements after exposure to those conditions. We propose not changing the percentages now used in S5.4.1 to calculate the required minimum strength of the exposed webbing. These percentages are: 75% (abrasion); 60% (exposure to light); and 85% (exposure to micro-organisms). Since we are proposing that new harness webbing should meet a minimum strength requirement of 11,000 N, the proposed minimum strength requirements for exposed harness webbing are: 8,200 N (abrasion), 6,600 N (exposure to light), and 9,300 N (exposure to micro-organisms).

Abrasion. The harness webbing compliance data indicate that the median abraded harness webbing strength was 11,748 N, with the average being 12,630 N. One hundred and five (105) of the 109 harness webbing samples tested in fiscal years 2000 to 2002 met the proposed 8,200 N minimum strength requirement for abraded harness webbing.

Exposure to Light. The exposure to light test data for the 109 samples (the same unabraded or original harness webbing samples as discussed above) have also been placed in the docket. The proposed minimum strength requirement for harness webbing after exposure to light is 6,600 N. One hundred and three (103) of the 109 harness webbing after exposure to light measure above 6,600 N. Of the 109 harness webbings exposed to light that were evaluated, the highest exposed to light harness webbing strength was 22,072 N, while the lowest was 4,005 N. The median light exposed harness webbing strength was 10,636 N, with the average being 11,287 N.

Only one of the 109 harness webbing evaluated failed to meet the current 60 percent exposure to light test requirement. Only the Cosco and five other samples (6 out of 109) would not meet the proposed 6,600 N minimum strength requirement for harness webbing after exposure to light.

Micro-organisms. S5.1 (f) of FMVSS No. 209 states: “Note: This test shall not be required on webbing made from material which is inherently resistant to micro-organisms.” Currently, manufacturers use nylon or polyester material for there harness webbing and, therefore, the agency has no data for micro-organisms tests for harness webbing. However, the standard does not preclude manufacturers from using biodegradable materials, and in the future manufacturers may use less resistant harness webbing material. Accordingly, the agency is proposing webbing strengths of 11,000 N and 9,300 N for new and for harness webbing exposed to micro-organisms, respectively.

Harmonization With Other Standards

For possible harmonization with other standards on this proposal, the agency evaluated the United Nations Economic Commission for Europe (ECE) Regulation 44 “ Restraining devices for child occupants of power-driven vehicles (Child restraint system). A summary of the ECE Reg. 44 requirements for webbing is: (1) The breaking load not to have less than 75 percent of the average of the loads determined in the test, (2) the breaking load shall be not less than 3,600 N to restrain children with mass up to18 kg, 5,000 N to restrain children with mass from 15 to 25 kg, and 7,200 N to restrain children with mass from 22 to 36 kg.

In addition to the strength requirements, the test conditions and tests for the two standards are different. For example, ECE uses room temperature, light exposure, cold, heat, water, and abrasion for webbing conditioning. On the other hand, NHTSA uses light exposure, micro-organisms, and abrasion for webbing conditioning. In addition, ECE uses Xenon for exposure to light test, NHTSA uses Carbon Arc and Soda-lime glass (for polyester) for exposure to light test. For abrasion test, ECE uses 1,000 cycles with 1 kg mass and 5,000 cycles for 0.5 kg mass at a rate of 30 cycles per minute. NHTSA uses 2,500 cycles at a rate of 18 cycles per minute with 1.5 kg mass for harness (webbing contacts the child) webbing and 2.35 kg mass for tether (webbing does not contact the child) webbing. ECE requires rigid attachments to secure a CRS to lower vehicle anchorages. NHTSA does not require rigid attachments to secure a CRS to lower vehicle anchorages. ECE does not differentiate between the strap for harness and the strap for tether webbing, while NHTSA does. ECE specifies webbing breaking strength after conditioning, and limits the degradation level for any conditioning at 75 percent of the original breaking strength. NHTSA, consistent with FMVSS No. 209, “Seat belt assemblies,” specifies webbing breaking strength before and after conditioning, and at different degradation levels for each conditioning. While ECE specifies webbing breaking strength requirements based on mass of a child, NHTSA specifies webbing breaking strength requirements based on the upper mass limit of the heaviest child likely to use a restraint system.

The proposed changes are intended to be standard maintenance, and are a small part of the FMVSS No. 213. The differences in conditioning, use, and testing would make it very difficult to harmonize only the webbing breaking strengths requirements between the two standards. At this time, the agency is proposing to maintain consistency with existing FMVSS No. 209 requirements. As opportunity permits, the agency will continue to look for ways to harmonize this standard with ECE Reg. 44 and other international child restraint system standards.

III. Weight Used To Abrade Tether Webbing

Today's document clarifies the text of the standard to determine what weight is used to abrade the tether webbing used in a child restraint system for the abrasion test.

S5.4.1(a) of FMVSS No. 213 requires that child restraint belt webbing must meet breaking strength requirements after being abraded pursuant to a procedure specified in S5.1(d) of FMVSS No. 209. S5.1(d)'s abrasion procedure requires that belt webbing be drawn across two edges of a hexagonal steel bar by an oscillating drum, with one end of the webbing sample attached to the drum and the other attached to a weight with a specified mass. Two different weights are specified:

One end of the webbing (A) shall be attached to a mass (B) of 2.35 [kilogram (kg)] ± .05 kg, except that a mass of 1.5 kg ± .05 kg shall be used for webbing in pelvic and upper torso restraints of a belt assembly used in a child restraint system.

A tether strap used to attach a child restraint to the vehicle is neither a pelvic nor upper torso restraint, and therefore does not fall within the exclusion allowing for use of the 1.5 kg mass. Thus, the 2.35 kg mass is used to abrade tether webbing. Today's document would amend present S5.4.1(a) of FMVSS No. 213 to specifically refer to the 2.35 kg mass as that used in the abrasion test to abrade webbing used to attach a child restraint to a vehicle's LATCH system (tether webbing). (The proposed change is set forth in proposed S5.4.1(b).) The agency believes that webbing connecting the child restraint system to a LATCH system (tether webbing) should be subjected to the weight of the higher mass because installation and removal of the child seat exposes the webbing to greater potential for abrasion, and because the webbing used for the LATCH attachments must restrain the mass of both the child and the child restraint system. Thus, the LATCH webbing needs to be stronger than harness webbing. Use of the 2.35 kg mass would better ensure that the webbing is strong enough to withstand the forces generated by the child restraint and the restrained child in a crash over the lifetime of the restraint and through the hands of successive owners. Comments are requested on this issue.

To the extent that child restraint manufacturers do not now use webbing that meets the standard's strength requirements when abraded with the 2.35 kg mass for LATCH attachments, comments are requested on the leadtime that is needed to make the change to the webbing. Presumably stronger webbing will have to be used for the LATCH attachments.

IV. Rulemaking Analyses and Notices

Executive Order 12866 and DOT Regulatory Policies and Procedures

Executive Order 12866, “Regulatory Planning and Review” (58 FR 51735, October 4, 1993), provides criteria for determining whether a regulatory action is “significant” and therefore subject to Office of Management and Budget (OMB) review and to the requirements of the Executive Order. The Executive Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

NHTSA has considered the impact of this rulemaking action under E.O. 12866 and the Department of Transportation's regulatory policies and procedures. This proposed rule was not reviewed by the Office of Management and Budget. The rulemaking action is also not considered to be significant under the Department of Transportation's Regulatory Policies and Procedures (44 FR 11034, February 26, 1979).

The agency tentatively concludes that this rulemaking action would not have an annual effect on the economy of $100 million. The agency is proposing to establish minimum breaking strength requirements for webbing used in child restraint systems. The agency estimates that most child restraint systems would meet these proposed requirements. NHTSA estimates that the cost of webbing material that would meet the proposed requirements is only about $.10 per foot. Thus, the impacts of this rulemaking are so minor so as not to warrant the preparation of a full regulatory evaluation.

Regulatory Flexibility Act

Pursuant to the Regulatory Flexibility Act (5 U.S.C. 601 et seq., as amended by the Small Business Regulatory Enforcement Fairness Act (SBREFA) of 1996), the agency must determine the impact of its proposal or final rule on small businesses. The Small Business Administration's regulations at 13 CFR Part 121 define a small business, in part, as a business entity “which operates primarily within the United States.” (13 CFR 121.105(a)). No regulatory flexibility analysis is required if the head of an agency certifies that the rule will not have a significant economic impact on a substantial number of small entities. SBREFA amended the Regulatory Flexibility Act to require Federal agencies to provide a statement of the factual basis for certifying that a rule will not have a significant economic impact on a substantial number of small entities.

NHTSA has considered the effects of this proposed rule under the Regulatory Flexibility Act. I certify that this proposed rule would not have a significant economic impact on a substantial number of small entities. The rational for this certification is that most child restraint systems would meet the proposed requirements. For manufacturers producing child restraints that do not meet the proposed minimum strength requirements, it would not be difficult for these manufacturers to obtain and use complying webbing on their child restraints.

National Environmental Policy Act

NHTSA has analyzed this rulemaking action for the purposes of the National Environmental Policy Act. The agency has determined that implementation of this proposed rule would not have any significant impact on the quality of the human environment.

Executive Order 13132 (Federalism)

Executive Order 13132 requires NHTSA to develop an accountable process to ensure “meaningful and timely input by State and local officials in the development of regulatory policies that have federalism implications.” “Policies that have federalism implications” is defined in the Executive Order to include regulations that have “substantial direct effects on the States, on the relationship between the National Government and the States, or on the distribution of power and responsibilities among the various levels of government.” Under Executive Order 13132, NHTSA may not issue a regulation with federalism implications, that imposes substantial direct compliance costs, and that is not required by statute, unless the Federal Government provides the funds necessary to pay the direct compliance costs incurred by State and local governments, the agency consults with State and local governments, or the agency consults with State and local officials early in the process of developing the proposed regulation. NHTSA also may not issue a regulation with federalism implications and that preempts State law unless the agency consults with State and local officials early in the process of developing the proposed regulation.

NHTSA has analyzed this proposed rule in accordance with the principles and criteria set forth in Executive Order 13132 and has determined that the proposed rule would not have sufficient federalism implications to warrant consultation with State and local officials or the preparation of a federalism summary impact statement. The proposed rule would not have any substantial effects on the States, the current Federal-State relationship, or the current distribution of power and responsibilities among the various local officials.

Civil Justice Reform (E.O. 12988)

This proposed amendment would not have any retroactive effect. Under 49 U.S.C. 30103, whenever a Federal motor vehicle safety standard is in effect, a State may not adopt or maintain a safety standard applicable to the same aspect of performance which is not identical to the Federal standard, except to the extent that the State requirement imposes a higher level of performance and applies only to vehicles procured for the State's use. 49 U.S.C. 30161 sets forth a procedure for judicial review of final rules establishing, amending, or revoking Federal motor vehicle safety standards. That section does not require submission of a petition for reconsideration or other administrative proceedings before parties may file suit in court.

Paperwork Reduction Act

Under the Paperwork Reduction Act of 1995, a person is not required to respond to a collection of information by a Federal agency unless the collection displays a valid OMB control number. This proposed rule would not require any collections of information as defined by the OMB in 5 CFR Part 1320.

National Technology Transfer and Advancement Act

Section 12(d) of the National Technology Transfer and Advancement Act of 1995 (NTTAA) directs NHTSA to use voluntary consensus standards in its regulatory activities unless doing so would be inconsistent with applicable law or otherwise impractical.¹⁰ Voluntary consensus standards are technical standards (e.g., materials specifications, test methods, sampling procedures, and business practices) that are developed or adopted by voluntary consensus standards bodies, such as the Society of Automotive Engineers (SAE). The NTTAA directs NHTSA to provide Congress, through the OMB, explanations when the agency decides not to use available and applicable voluntary consensus standards.

¹⁰ Public Law 104-113, codified at 15 U.S.C. 272.

There are no relevant voluntary consensus standards available at this time. However, the agency will consider any such standards when they become available.

Unfunded Mandates Reform Act

Section 202 of the Unfunded Mandates Reform Act of 1995 (UMRA) requires Federal agencies to prepare a written assessment of the costs, benefits, and other effects of proposed or final rules that include a Federal mandate likely to result in the expenditure by State, local, or tribal governments, in the aggregate, or by the private sector, of more than $100 million in any one year (adjusted for inflation with a base year of 1995). Adjusting this amount by the gross domestic product price deflator for the year 2004 results in about $118 million (115.5 ÷ 98.11 × $100 million). Before promulgating a rule for which a written statement is needed, section 205 of the UMRA generally requires NHTSA to identify and consider a reasonable number of regulatory alternatives and adopt the least costly, most cost-effective, or least burdensome alternative that achieves the objectives of the rule.

The provisions of section 205 do not apply when they are inconsistent with applicable law. Moreover, section 205 allows NHTSA to adopt an alternative other than the least costly, most cost-effective, or least burdensome alternative if the agency publishes with the final rule an explanation of why that alternative was not adopted.

The agency has tentatively concluded that this proposed rule would not result in the expenditure by State, local, or tribal governments, in the aggregate, or by the private sector, of more than $118 million annually. Because this proposed rule would not have a $118 million effect, no Unfunded Mandates assessment has been prepared.

Plain Language

Executive Order 12866 requires Federal agencies to write all notices in plain language. Application of the principles of plain language includes consideration of the following questions:

—Has the agency organized the material to suit the public's needs?

—Are the requirements in the rule clearly stated?

—Does the rule contain technical language or jargon that is not clear?

—Would a different format (grouping and order of sections, use of headings, paragraphing) make the rule easier to understand?

—Would more (but shorter) sections be better?

—Could the agency improve clarity by adding tables, lists, or diagrams?

—What else could the agency do to make this rulemaking easier to understand?

If you have any responses to these questions, please include them in your comments on this NPRM.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Public Participation

How Do I Prepare and Submit Comments?

Your comments must be written and in English. To ensure that your comments are filed correctly in the Docket, please include the docket number of this document in your comments.

Your comments must not be more than 15 pages long. (49 CFR 553.21) NHTSA established this limit to encourage you to write your primary comments in a concise fashion. However, you may attach necessary additional documents to your comments. There is no limit on the length of the attachments.

Please submit two copies of your comments, including the attachments, to Docket Management at the address given above under ADDRESSES. You may also submit your comments to the docket electronically by logging onto the Docket Management System (DMS) Web site at http://dms.dot.gov. Click on “Help & Information” or “Help/Info” to obtain instructions for filing your comments electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in NHTSA's confidential business information regulation (49 CFR Part 512).

Will the Agency Consider Late Comments?

NHTSA will consider all comments that Docket Management receives before the close of business on the comment closing date indicated above under DATES. To the extent possible, the agency will also consider comments that Docket Management receives after that date. If Docket Management receives a comment too late for the agency to consider it in developing a final rule (assuming that one is issued), the agency will consider that comment as an informal suggestion for future rulemaking action.

How Can I Read the Comments Submitted by Other People?

You may read the comments received by Docket Management at the address given above under ADDRESSES. The hours of the Docket are indicated above in the same location.

You may also see the comments on the Internet. To read the comments on the Internet, take the following steps:

1. Go to the Docket Management System (DMS) Web page of the Department of Transportation (http://dms.dot.gov).

2. On that page, click on “search.”

3. On the next page (http://dms.dot.gov/search), type in the four-digit docket number shown at the beginning of this document. Example: If the docket number were “NHTSA-1998-1234,” you would type “1234.” After typing the docket number, click on “search.”

4. On the next page, which contains docket summary information for the docket you selected, click on the desired comments. You may download the comments. Although the comments are imaged documents, instead of word processing documents, the “pdf” versions of the documents are word searchable.

Please note that even after the comment closing date, NHTSA will continue to file relevant information in the Docket as it becomes available. Further, some people may submit late comments. Accordingly, the agency recommends that you periodically check the Docket for new material.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

In consideration of the foregoing, NHTSA proposes to amend 49 CFR Part 571 as follows:

List of Subjects in 49 CFR Part 571

Motor vehicle safety, Reporting and recordkeeping requirements, Tires.

PART 571—[AMENDED]

1. The authority citation for Part 571 would continue to read as follows:

Authority: 49 U.S.C. 322, 30111, 30115, 30117, and 30166; delegation of authority at 49 CFR 1.50.

2. S5.4.1 of § 571.213 would be amended by redesignating paragraphs (a) through (c) as paragraphs (b) through (d), adding a new paragraph (a), and revising the re-designated paragraphs (b) and (c) to read as follows:

§ 571.213 Standard No. 213; child restraint systems.

* * * * *

S5.4.1 Performance requirements. The webbing of belts provided with a child restraint system and used to attach the system to the vehicle or to restrain the child within the system shall—

(a) Have a minimum breaking strength for new webbing of not less than 15,000 N in the case of webbing used to secure a child restraint system to the tether and lower anchorages of a child restraint anchorage system, and not less than 11,000 N in the case of the webbing used to secure a child to a child restraint system. “New webbing” means webbing that has not been exposed to abrasion, light or micro-organisms as specified elsewhere in this section.

(b)(1) After being subjected to abrasion as specified in S5.1(d) or S5.3(c) of FMVSS 209 (§ 571.209), have a breaking strength of not less than 11,200 N for webbing used to secure a child restraint system to the tether and lower anchorages of a child restraint anchorage system and 8,200 N for webbing used to secure a child to a child restraint system, when tested in accordance with S5.1(b) of FMVSS 209.

(2) A mass of 2.35 ± .05 kg shall be used in the test procedure in S5.1(d) of FMVSS 209 for webbing used to secure a child restraint system to the tether and lower anchorages of a child restraint anchorage system. The mass is shown as (B) in Figure 2 of FMVSS 209.

(c)(1) After exposure to the light of a carbon arc and tested by the procedure specified in S5.1(e) of FMVSS 209 (§ 571.209), have a breaking strength of not less than 9,000 N for webbing used to secure a child restraint system to the tether and lower anchorages of a child restraint anchorage system and 6,600 N for webbing used to secure a child to a child restraint system, and shall have a color retention not less than No. 2 on the Geometric Gray Scale published by the American Association of Textile Chemists and Colorists, Post Office Box 886, Durham, NC.

(2) After being subjected to micro-organisms and tested by the procedures specified in S5.1(f) of FMVSS 209 (§ 571.209), shall have a breaking strength not less than 12,700 N for webbing used to secure a child restraint system to the tether and lower anchorages of a child restraint anchorage system and 9,300 N for webbing used to secure a child to a child restraint system.

* * * * *

Issued: June 23, 2005.
Stephen R. Kratzke,
Associate Administrator for Rulemaking.

[FR Doc. 05-12875 Filed 6-29-05; 8:45 am]

BILLING CODE 4910-59-P